NATIONAL ARCHIVES AND RECORDS ADMINISTRATION

[NARA-2013-043]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 4, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Commissary Agency (DAA-0506-2013-0001, 6 items, 6 temporary items). Correspondence, permits, surveys, and other records relating to administration of supplemental nutrition assistance programs at commissaries.

2. Department of Health and Human Services, Centers for Medicare & Medicaid Services (DAA-0440-2012-0013, 2 items, 1 temporary item). Master files of an electronic information system used to support studies pertaining to chronic medical conditions. Proposed for permanent retention are public use versions of the files.

3. Department of Health and Human Services, Centers for Medicare & Medicaid Services (DAA-0440-2012-0014, 1 item, 1 temporary item). Master files of an electronic information system used to demonstrate payment processing for accountable care organizations.

4. Department of Labor, Office of the Solicitor (DAA-0174-2013-0006, 9 items, 7 temporary items). Records include litigation case files, advice and opinion files, rulemaking records, correspondence, working files, and tracking systems. Proposed for permanent retention are historically significant litigation case and advice files and historically significant records documenting the activities of the Solicitor.

5. Department of the Navy, U.S. Marine Corps (DAA-0127-2012-0005, 8 items, 8 temporary items). Inputs, outputs, and master files of an electronic information system used to track and manage ammunition supply.

6. Department of the Navy, U.S. Marine Corps (DAA-0127-2012-0006, 1 item, 1 temporary item). Master files of an electronic information system used to track and control access to Marine Corps installations.

7. Department of the Navy, U.S. Marine Corps (DAA-0127-2013-0015, 1 item, 1 temporary item). Master files of an electronic information system used for financial management including vouchers, inventory, and purchasing.

8. Department of Transportation, Federal Railroad Administration (DAA-0399-2013-0003, 4 items, 2 temporary items). Publication working papers and routine promotional items. Proposed for permanent retention are mission-related publications and promotional items.

9. Department of Transportation, Federal Railroad Administration (DAA-0399-2013-0004, 8 items, 5 temporary items). Records include internal memorandums, unpublished directives, work files, and unimplemented organization plans. Proposed for permanent retention are published directives, high-level delegations of authority, and reports on implemented organization plans.

10. Department of Transportation, Federal Railroad Administration (DAA-0399-2013-0005, 6 items, 4 temporary items). Records related to grants and loans including cooperative agreements, interagency agreements, and approved and denied loan applications. Proposed for permanent retention are approved Amtrak grants, national agreements, and bilateral agreements.

11. Department of Transportation, Pipeline and Hazardous Materials Safety Administration (DAA-0571-2012-0001, 1 item, 1 temporary item). Master files of an electronic information system used to track daily business transactions.

12. Department of Transportation, Pipeline and Hazardous Materials Safety Administration (N1-571-12-1, 4 items, 2 temporary items). Petitions for rulemaking and rulemaking working papers. Proposed for permanent retention are rulemaking dockets and regulation interpretations.

13. Department of Transportation, Pipeline and Hazardous Materials Safety Administration (DAA-0571-2012-0002, 1 item, 1 temporary item). Master files of an electronic information system used to collect and monitor information on pipeline safety.

14. Department of Transportation, Pipeline and Hazardous Materials Safety Administration (DAA-0571-2013-0001, 10 items, 5 temporary items). Records include incident reports, annual reports, exemption files, and working files. Proposed for permanent retention are rulemaking and petition files, regulation interpretation files, significant incident reports, and advisory committee files.

15. Department of Transportation, Pipeline and Hazardous Materials Safety Administration (DAA-0571-2013-0002, 6 items, 6 temporary items). Records relating to grants, certifications, compliance, and emergency preparedness and response plans.

16. Department of the Treasury, Departmental Offices (N1-56-09-7, 8 items, 6 temporary items). Master files of an electronic information system that collects and maintains information on international portfolio investment flows. Proposed for permanent retention are annual reports of this information.

17. Administrative Office of the United States Courts, District Courts of the United States (DAA-0021-2013-0004, 3 items, 2 temporary items). Notes and recordings of criminal cases not involving capital punishment. Proposed for permanent retention are notes and recordings of cases involving capital punishment.

18. Administrative Office of the United States Courts, United States Bankruptcy Courts (DAA-0578-2013-0001, 2 items, 1 temporary item). Records relating to miscellaneous proceedings not specifically part of a bankruptcy case or adversary proceeding. Proposed for permanent retention are records of attorney disbarment proceedings.

19. Consumer Financial Protection Bureau, Office of Consumer Response (N1-587-12-5, 11 items, 11 temporary items). Records include routine correspondence, internal presentation records, training and procedure records, working papers, and consumer complaint records.

20. Environmental Protection Agency, Agency-wide (DAA-0412-2013-0020, 4 items, 4 temporary items). Records related to financial planning.

21. National Archives and Records Administration, Research Services (N2-59-13-1, 1 item, 1 temporary item). Records of the Department of State comprising one box of top secret cover sheets to which the related records are not attached. These records were accessioned to the National Archives but lack sufficient historical value to warrant continued preservation.

Dated: August 28, 2013.
Paul M. Wester, Jr.,
Chief Records Officer for the U.S. Government.

[FR Doc. 2013-21472 Filed 9-3-13; 8:45 am]

BILLING CODE 7515-01-P